DEPARTMENT OF HEALTH AND HUMAN SERVICES

Centers for Disease Control and Prevention

Advisory Committee on Childhood Lead Poisoning Prevention (ACCLPP)

In accordance with section 10(a)(2) of the Federal Advisory Committee Act (Pub. L. 92-463), the Centers for Disease Control and Prevention (CDC) announces the following meeting of the aforementioned committee:

Times and Dates: 12:30 p.m.-5 p.m., October 29, 2008. 8:30 a.m.-5 p.m., October 30, 2008.

Place: The Westin San Diego, 400 West Broadway, San Diego, California 92101, Telephone: (619) 338-3613, Fax: (619) 239-4527.

Status: Open to the public, limited only by the space available. The meeting room accommodates approximately 125 people.

Purpose: The committee provides advice and guidance to the Secretary; the Assistant Secretary for Health; and the CDC Director regarding new scientific knowledge and technologic developments and their practical implications for childhood lead poisoning prevention efforts. The committee also reviews and reports regularly on childhood lead poisoning prevention practices and recommends improvements in national childhood lead poisoning prevention efforts.

Matters to be Discussed: Agenda items are subject to change as priorities dictate; however, the current agenda includes

• Discussion on the potential approaches to strengthen existing strategies to achieve the Healthy People 2010 goal of eliminating elevated blood lead levels (BLLs) as a public health problem in the United States by 2010;

• Update on school performance and concurrent BLLs;

• Discussion on study designs related to adverse effects from BLLs <10 μg/dL; and

• Discussion on the development of a prevention-based research agenda.

Opportunities will be provided during the meeting for oral comments. Depending on the time available and the number of requests, it may be necessary to limit the time for each presenter.

FOR FURTHER INFORMATION CONTACT: Claudine Johnson, Program Operations Assistant, Telephone: (770) 488-3629; Barry Brooks, Administrative Team Leader, Telephone: 770-488-3841; Lead Poisoning Prevention Branch, Division of Environmental Emergency Health Services, National Center for Environmental Health, CDC, 4770 Buford Hwy., NE., Mailstop F60, Atlanta, Georgia 30341.

(The Director, Management Analysis and Services Office, has been delegated the authority to sign Federal Register notices pertaining to announcements of meetings and other committee management activities for both CDC and the Agency for Toxic Substances and Disease Registry.)

Dated: October 7, 2008.
Elaine L. Baker,
Director, Management Analysis and Services Office, Centers for Disease Control and Prevention.

[FR Doc. E8-24394 Filed 10-14-08; 8:45 am]

BILLING CODE 4163-18-P